DEPARTMENT OF ENERGY

Federal Energy Regulatory Commission

[Docket No. ER03-216-003, et al.]

TRANSLink Development Company, LLC, et al.; Electric Rate and Corporate Filings

April 8, 2003.

The following filings have been made with the Commission. The filings are listed in ascending order within each docket classification.

1. TRANSLink Development Company, LLC

[Docket No. ER03-216-003]

Take notice that on April 2, 2003, TRANSLink Development Company, LLC, (TRANSLink Development), and the Midwest Independent Transmission System Operator, Inc. (Midwest ISO) tendered for filing the definition and criteria of “Material Effect,” as those terms are used in the Appendix I Agreement between the Midwest ISO and TRANSLink Development, conditionally accepted by the Commission in its January 15, 2003 Order. The Midwest ISO has requested an effective date April 3, 2003.

In addition, the Midwest ISO states that it has electronically served a copy of this filing, without attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: April 23, 2003.

2. San Diego Gas & Electric Company

[Docket No. ER03-217-002]

Take notice that on April 3, 2003, San Diego Gas & Electric Company (SDG&E) tendered for filing pursuant to Commission's Order issued January 24, 2003, Service Agreements numbers 17 and 18, FERC Electric Tariff, First Revised Volume No. 6. SDG&E states that these agreements were accepted for filing on January 24, 2003, conditioned upon SDG&E's filing of designations for both interconnection agreements in compliance with Order No. 614 and Section 35.9(a) of the Commission's Regulations.

SDG&E states that copies of the filing have been served on Termoelectrica de Mexicali S. de R.L. de C.V., Termoelectrica U.S., LLC, and on the California Public Utilities Commission.

Comment Date: April 24, 2003.

3. Avista Corporation

[Docket No. ER03-435-001]

Take notice that on April 3, 2003, Avista Corporation (Avista) tendered for filing with the Federal Energy Regulatory Commission, a compliance filing in response to a Letter Order issued on March 19, 2003. Avista states that the Letter Order accepted for filing, effective January 1, 2003, an Agreement for the Purchase and Sale of Power between Avista Corporation and Public Utility District No. 1 of Douglas County, Washington (Rate Schedule) conditioned upon Avista filing a revised Rate Schedule properly paginated.

Avista states that copies of the filing were served upon Public Utility District No. 1 of Douglas County, the sole party to the Rate Schedule.

Comment Date: April 24, 2003.

4. San Diego Gas & Electric Company

[Docket No. ER03-548-001]

Take notice that on April 3, 2003, San Diego Gas & Electric Company (SDG&E) tendered for filing its First Revised Service Agreement No. 9 and First Revised Service Agreement No. 11 to SDG&E's FERC Electric Tariff, First Revised Volume No. 6, incorporating revisions to the Expedited Interconnection Facilities Agreements with CalPeak Power Enterprise, LLC and CalPeak Power Border, LLC, (collectively, CalPeak) respectively. SDG&E states that the revised Service Agreements implement Internal Revenue Service Notice 2001-82, “Expansion of Safe Harbor Provisions Under Notice 88-129”, which provides that in certain circumstances, regulated public utilities such as SDG&E will not realize income upon contributions by interconnecting electric generators of certain interconnection facilities. SDG&E further states that the amendment clarifies terms pertaining to creditworthiness requirements of CalPeak and the guarantor of CalPeak's financial obligations as contemplated by Section 10.22.

SDG&E states that copies of the filing have been served on CalPeak and on the California Public Utilities Commission.

Comment Date: April 24, 2003.

5. DB Energy Trading LLC

[Docket No. ER03-657-001]

Take notice that on April 2, 2003, DB Energy Trading LLC (DB Energy) tendered for filing an application for an order accepting its rate schedule to permit sales of power and capacity at market-based rates and granting certain waivers and blanket approvals. DB Energy requests waiver of the 60-day prior notice rule

Comment Date: April 17, 2003.

6. New York Independent System Operator, Inc.

[Docket No. ER03-690-000]

Take notice that on April 1, 2003, the New York Independent System Operator, Inc. (NYISO), filed proposed revisions to the NYISO's Market Administration and Control Area Services Tariff (Services Tariff) and Open Access Transmission Tariff (OATT). NYISO states that the proposed revisions are intended to limit the extent to which prices at the Hydro Quebec external proxy bus can rise to non-competitive levels. The NYISO has requested that the Commission make the filing effective on May 31, 2003.

NYISO states that a copy of this filing was served upon all signatories of the NYISO's OATT and Services Tariff.

Comment Date: April 22, 2003.

7. Michigan Electric Transmission Company, LLC

[Docket No. ER03-692-000]

Take notice that on April 1, 2003, Michigan Electric Transmission Company, LLC (METC) submitted an unexecuted Interconnection Facilities Agreement Between METC and the City of Hart (Facilities Agreement and Hart, respectively). METC requests an effective date of March 13, 2003 for the Facilities Agreement.

Comment Date: April 22, 2003.

8. ISG Sparrows Point Inc.

[Docket No. ER03-693-000]

Take notice that on April 1, 2003 ISG Sparrows Point Inc. (ISG Sparrows Point) petitioned the Federal Energy Regulatory Commission (Commission) for acceptance of ISG Sparrows Point FERC Electric Tariff, Original Volume Number 1; the granting of certain blanket approvals, including the authority to sell electricity at market-based rates; and the waiver of certain Commission regulations. ISG Sparrows Point requests an effective date for the rate schedule of May 1, 2003.

Comment Date: April 18, 2003.

9. PJM Interconnection, L.L.C.

[Docket No. ER03-694-000]

Take notice that on April 1, 2003, PJM Interconnection, L.L.C. (PJM), filed revisions to Schedule 3 of the PJM Operating Agreement to establish a charge on the submission of excessive numbers of bids or offers in the energy market or FTR auctions.

PJM proposes an effective date of June 1, 2003 for the operating agreement revisions.

PJM states that copies of this filing were served upon all PJM members and each state electric utility regulatory commission in the PJM region.

Comment Date: April 22, 2003.

10. Ocean Energy Services, Inc.

[Docket No. ER03-695-000]

Take notice that on March 31, 2003, Ocean Energy Services, Inc., tendered for filing a Notice of Cancellation for the Market Based Rate Schedule in Docket No. ER96-588-000 dated January 19, 1996.

Comment Date: April 14, 2003.

11. Florida Keys Electric Cooperative Association, Inc.

[Docket No. ER03-696-000]

Take notice that on April 2, 2003, Florida Keys Electric Cooperative Association, Inc. (FKEC) tendered for filing a revised rate for non-firm transmission service provided to the City Electric System, Key West, Florida (CES) in accordance with the terms and conditions of the Long-Term Joint Investment Transmission Agreement between the Parties.

FKEC states that a copy of this filing has been served on CES and the Florida Public Service Commissioner.

Comment Date: April 23, 2003.

12. PacifiCorp

[Docket No. ER03-697-000]

Take notice that on April 2, 2003, PacifiCorp, tendered for filing in accordance with 18 CFR 35 of the Commission's Rules and Regulations a Notice of Cancellation of PacifiCorp's First Revised Rate Schedule No. 462 with Deseret Generation & Transmission Co-Operative effective July 31, 2003.

PacifiCorp states that copies of this filing were supplied to Deseret Generation & Transmission Co-Operative, the Utah Public Service Commission and the Public Utility Commission of Oregon.

Comment Date: April 23, 2003.

13. Georgia-Pacific Corporation

[Docket No. ER03-698-000]

Take notice that on April 2, 2003, Georgia-Pacific Corporation (G-P) tendered for filing a Notice of Cancellation of its Market-Based Rate Schedule, designated as FERC Electric Tariff, Original Volume No. 1, Original Sheet No. 1, which was originally accepted for filing by the Commission on December 8, 2000 in Docket Nos. ER00-3604-000 and ER00-3604-0001.

Comment Date: April 23, 2003.

14. Northeast Utilities Service Company

[Docket No. ER03-699-000]

Take notice that on April 3, 2003, Northeast Utilities Service Company (NUSCO), tendered for filing, a Service Agreement to provide Non-Firm Point-To-Point Transmission Service to Cargill Power Markets, LLC under the NU System Companies' Open Access Transmission Service Tariff No. 9.

NUSCO states that a copy of this filing has been mailed to Cargill Power Markets, LLC. NUSCO also requests, that the Service Agreement become effective May 1, 2003.

Comment Date: April 24, 2003.

15. Smarr EMC

[Docket No. ER03-700-000]

Take notice that on April 3, 2003, Smarr EMC (Smarr) tendered for filing with the Federal Energy Regulatory Commission pursuant to 18 CFR 35.13 revisions to Smarr's First Revised Electric Rate Schedule FERC No. 1 and First Revised Electric Rate Schedule FERC No. 2.

Smarr states that copies of this filing have been mailed to each of Smarr's Member-Owner/Purchasers. Smarr respectfully requests that the amendments to its Rate Schedules become effective June 1, 2003.

Comment Date: April 24, 2003.

16. Southern California Edison Company

[Docket No. ER03-701-000]

Take notice that on April 3, 2003, Southern California Edison Company (SCE) tendered for filing an increase in the rate for scheduling and dispatching services provided in 2003 as embodied in SCE's agreements with the following entities:

Entity | Rate Schedule FERC No.
1. Arizona Electric Power Cooperative | 132
2. Arizona Public Service Company | 348
3.Imperial Irrigation District | 268
4. Metropolitan Water Districtof Southern California | 292
5. M-S-R Public Power Agency | 339
6. Pacific Gas and Electric Company | 256, 318

SCE states that the proposed changes would increase revenues from these entities by $628 based on transactions for the twelve-month period. Since SCE is requesting an effective date of June 2, 2003, the prorated estimated increase in 2003 scheduling and dispatching service revenues would be $365.

SCE states that copies of this filing were served upon the Public Utilities Commission of the State of California.

Comment Date: April 24, 2003.

17. Northeast Utilities Service Company

[Docket No. ER03-702-000]

Take notice that on April 3, 2003, Northeast Utilities Service Company (NUSCO), tendered for filing, a Service Agreement to provide Firm Point-To-Point Transmission Service to Cargill Power Markets, LLC, under the NU System Companies' Open Access Transmission Service Tariff No. 9.

NUSCO states that a copy of this filing has been mailed to Cargill Power Markets, LLC. NUSCO also requests that the Service Agreement becomes effective May 1, 2003.

18. PJM Interconnection, L.L.C.

[Docket No. ER03-703-000]

Take notice that on April 1, 2003, PJM Interconnection, L.L.C. (PJM) filed amendments to the Reliability Assurance Agreement Among Load Serving Entities in the PJM Control Area (RAA), the PJM West Reliability Assurance Agreement Among Load Serving Entities in the PJM West Region (West RAA), the Amended and Restated Operating Agreement of PJM Interconnection, L.L.C. (Operating Agreement) and the PJM Open Access Transmission Tariff (Tariff) to make the following changes:

1. Amend the West RAA and RAA and make conforming changes to the Operating Agreement and Tariff to eliminate the “available capacity” approach from the West RAA and replace it with an “unforced capacity or ‘UCAP’ ” approach for the entire PJM region.

2. Amend the RAA and West RAA to change the voting and quorum requirements for the PJM Reliability Committee.

3. Amend the RAA to eliminate outdated provisions on procedures applicable before the “Pool-Wide Choice Date.”

4. Amend the RAA and West RAA to eliminate the requirement to file new signatory pages with the Commission.

PJM requests that these amendments become effective on June 1, 2003. PJM states that copies of its filing were served upon all PJM members and each state electric utility regulatory commission in the PJM region.

Comment Date: April 22, 2003.

19. Florida Power & Light Company

[Docket No. ER03-716-000]

Take notice that on March 28, 2003 Florida Power & Light Company (FPL) tendered for filing a Notice of Termination of an Interconnection & Operation Agreement (IOA) between FPL and CPV Gulfcoast, Ltd. (CPVG). FPL states that termination of the IOA has been mutually agreed to by FPL and CPVG. FPL requests that the termination be made effective March 13, 2003 as mutually agreed by the parties. Given that termination of the IOA has been mutually agreed to by FPL and CPVG, FPL also requests that the Commission not act on FPL's February 14, 2003 filing of the 2nd Revised Service Agreement No. 195 and for it to be withdrawn from the docket.

Comment Date: April 18, 2003.

20. Old Dominion Electric Cooperative

[Docket No. ES03-31-000]

Take notice that on April 4, 2003, Old Dominion Electric Cooperative submitted an application pursuant to section 204 of the Federal Power Act seeking authorization to issue short-term, secured or unsecured debt in an amount not to exceed $501 million.

Comment Date: April 23, 2003.

21. Texas-New Mexico Power Company

[Docket No. ES03-32-000]

Take notice that on April 4, 2003, Texas-New Mexico Power Company submitted an application pursuant to section 204 of the Federal Power Act seeking authorization to issue short-term, unsecured debt in an amount not to exceed $291.3 million.

Comment Date: April 18, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-9238 Filed 4-15-03; 8:45 am]

BILLING CODE 6717-01-P